DEPARTMENT OF HEALTH AND HUMAN SERVICES

Announcement of Requirements and Registration for “Ocular Imaging Challenge”

AGENCY: Office of the National Coordinator for Health Information Technology, HHS.

ACTION: Notice.

Award Approving Official: Farzad Mostashari, National Coordinator for Health Information Technology.

Authority: 15 U.S.C. 3719.

SUMMARY: The “Ocular Imaging Challenge” is a multidisciplinary call to innovators and software developers to create an application that improves interoperability among office-based ophthalmic imaging devices, measurement devices, and EHRs.

Documentation of the typical ophthalmology examination in an electronic health record (EHR) continues to be challenging. This creates barriers to full acceptance and use of EHRs within the medical community. Data and images are often stored on the acquisition devices in proprietary databases and file formats, and therefore have limited connectivity with EHR systems and ophthalmology-specific picture archiving and communication systems (PACS). There are often problems with redundant entry of demographic and clinical data into devices, data transfer from devices to EHRs and PACS without proprietary interfaces, workflow challenges, and difficulty connecting systems from different vendors. These same challenges occur in a plurality of other medical specialties that employ office-based testing and measurement. Given this fact, there is every expectation that the success of this challenge will be translatable to practices that use imaging and measurement devices such as otorhinolaryngology (ear, nose, and throat), physiatry (physical medicine and rehabilitation), and cardiology, among others.

The statutory authority for this challenge competition is Section 105 of the America COMPETES Reauthorization Act of 2010 (Pub. L. 111-358).

DATES: Effective on May 14, 2012. Challenge submission period ends November 9, 2012, 11:59 p.m. et.

FOR FURTHER INFORMATION CONTACT: Adam Wong, 202-720-2866; Wil Yu, 202-690-5920

SUPPLEMENTARY INFORMATION:

Subject of Challenge Competition

The “Ocular Imaging Challenge” is a multidisciplinary call to innovators and software developers to create an application that improves interoperability among office-based ophthalmic imaging devices, measurement devices, and EHRs. This application should:

• Convert output from legacy ophthalmic imaging and measurement devices from proprietary formats to vendor-neutral standard formats (e.g. using freeware DICOM tools)

• Archive data from multiple imaging and measurement devices

• Display images and data for clinicians, and permit basic functionalities such as optimizing viewing parameters (e.g. brightness, contrast, color, zoom, pan)

• Integrate with existing EHRs (e.g. “single sign-on”)

• Where applicable, leverage and extend NwHIN standards and services including, but not limited to, transport (Direct, web services), content (Transitions of Care, CCD/CCR), and standardized vocabularies

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should:

Access the www.challenge.gov Web site and search for the “Ocular Imaging Challenge”.

Access the ONC Investing in Innovation (i2) Challenge Web site at:

○ http://www.health2con.com/devchallenge/challenges/onc-i2-challenges/.

○ A registration link for the challenge can be found on the landing page under the challenge description.

Amount of the Prize

First Prize: $100,000

Second Prize: $35,000

Third Prize: $15,000

Awards may be subject to Federal income taxes and HHS will comply with IRS withholding and reporting requirements, where applicable.

Payment of the Prize

Prize will be paid by contractor.

Basis Upon Which Winner Will Be Selected

The ONC review panel will make selections based upon the following criteria:

Breadth of input devices and formats

○ The solution will accept output from a wide range of ophthalmic devices and input formats, and convert to standard DICOM formats (e.g. using freeware tools).

Usability and interface for image viewing

○ The solution will have an easy-to-use interface for clinicians with a range of experience and comfort level with technology.

○ The solution will provide the ability to view and annotate diagnostic-quality ophthalmic images.

Integration with workflow

○ The solution will be convenient to integrate into clinical ophthalmology workflow, to install on existing office hardware platforms, and to integrate with existing EHR systems (e.g. “single sign-on”).

Platform Neutrality

Additional Information

Ownership of intellectual property is determined by the following:

Each entrant retains title and full ownership in and to their submission. Entrants expressly reserve all intellectual property rights not expressly granted under the challenge agreement.

By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Dated: May 7, 2012.
Farzad Mostashari,
National Coordinator for Health Information Technology.

[FR Doc. 2012-11591 Filed 5-11-12; 8:45 am]

BILLING CODE 4150-45-P